DEPARTMENT OF HEALTH AND HUMAN SERVICES

Office of the Secretary

Office of the Assistant Secretary for Planning and Evaluation; Statement of Organization, Functions and Delegations of Authority

Part A (Office of the Secretary), Statement of Organization, Functions, and Delegations of Authority of the Department of Health and Human Services (HHS), is being amended at Chapter AE, Office of the Assistant Secretary for Planning and Evaluation (ASPE) as last amended at 67 FR 61341 on September 30, 2002. This reorganization is to realign the functions of ASPE's Office of Science and Data Policy to reflect the current structure. The changes are as follows:

I. Under Section AE.20 Functions, delete “E. The Office of Science and Data Policy (AEJ),” in its entirety and replace with the following:

E. The Office of Science and Data Policy (AEJ)

The Office of Science and Data Policy (SDP) is responsible for policy development, analysis and coordination and for the conduct and coordination of research, evaluation, analyses and data development on matters relating to science policy and data and statistical policy within HHS. Functions include policy, strategic and long-range planning; policy research, analysis and evaluation, economic, statistical, program and budget analysis; review of regulations; and development of legislative proposals in science policy and data policy. SDP provides advice and analysis on science policy and data policy issues, coordinates science policy and data policy issues of inter-agency scope within HHS, and manages inter-agency initiatives in science policy and data policy. SDP also conducts a program of policy research, analysis and evaluation in science policy and data policy, provides leadership and staff to several White House, departmental and external advisory committees, and maintains liaison with other federal offices and HHS partners in the science policy and data policy communities.

1. The Division of Data Policy (AEJ1) is responsible for data policy development and coordination within the Department and serves as the focal point for Department-wide data and statistical policy. It provides leadership and staff support to the Department's Data Council, the principal internal forum and advisory body to the Secretary on data policy issues, and provides oversight for and serves as the Executive Director for the National Committee on Vital and Health Statistics, the statutory public advisory body to the Secretary on health data, statistics, privacy and health information policy. The Division also provides analytical support to the ASPE on a variety of Department-wide data policy issues and initiatives, including statistical policy, privacy, data planning, HHS data quality and peer review initiatives, HIPAA and HHS data collection strategy. It also carries out a program of policy research, evaluation and analysis in these areas and provides several cross-cutting data policy services across ASPE.

2. The Division of Science Policy (AEJ2) is responsible for functions of the office related to science policy, programs and issues and initiatives that are heavily science-oriented, including public health issues that involve complex or rapidly evolving science and technology issues. Areas include public health emergency preparedness, biomedical research policy, drug safety, food safety, pandemic preparedness, emerging infectious diseases, prescription drug issues, personalized health care advances and related topics. It works closely with and is responsible for analytical responsibilities relating to the HHS science agencies (National Institutes of Health (NIH), Food and Drug Administration (FDA), and Centers for Disease Control and Prevention (CDC)) and for cross-cutting issue areas. The Division fosters efforts across HHS toward ensuring that the science components of proposed regulations, legislation, plans, budgets and other policy initiatives are coordinated and meet high standards of science quality and integrity. It also conducts policy research, evaluation and analysis in these areas and maintains liaison with the White House Office of Science and Technology Policy and with other inter-agency science policy activities.

II. Delegations of Authority. All delegations and redelegations of authority made to officials and employees of affected organizational components will continue in them or their successors pending further redelegation, provided they are consistent with this reorganization.

Dated: April 9, 2010.
E.J. Holland, Jr.,
Assistant Secretary for Administration.

[FR Doc. 2010-8678 Filed 4-15-10; 8:45 am]

BILLING CODE 4150-04-P